DEPARTMENT OF AGRICULTURE

Food Safety and Inspection Service

9 CFR Part 381

[Docket No. FSIS-2016-0002]

RIN 0583-AD64

Eligibility of the People's Republic of China (PRC) To Export to the United States Poultry Products From Birds Slaughtered in the PRC

AGENCY: Food Safety and Inspection Service, USDA.

ACTION: Proposed rule.

SUMMARY: The Food Safety and Inspection Service (FSIS) is proposing to amend the poultry products inspection regulations to list the PRC as eligible to export to the United States poultry products from birds slaughtered in the PRC. The PRC is currently eligible to export processed poultry products to the United States if the products are derived from poultry slaughtered in the United States or in other countries eligible to slaughter and export poultry to the United States. FSIS is proposing this action because the Agency has reviewed the PRC's laws, regulations, and poultry slaughter inspection system as implemented and has determined that the PRC's poultry slaughter inspection system is equivalent to the system that the United States has established under the Poultry Products Inspection Act (PPIA) and its implementing regulations.

Should this rule become final, slaughtered poultry, or parts or other products thereof, processed in certified PRC establishments, would be eligible for export to the United States. Although the PRC may be listed in FSIS's regulations as eligible to export poultry products to the United States, the products must also comply with all other applicable requirements of the United States, including those of USDA's Animal and Plant Health Inspection Service (APHIS), before any products can enter the United States. All such products would be subject to re-inspection at United States ports-of-entry by FSIS inspectors.

DATES: Comments must be received on or before August 15, 2017.

ADDRESSES: FSIS invites interested persons to submit comments on this proposed rule. Comments may be submitted by one of the following methods:

• Federal eRulemaking Portal: This Web site provides the ability to type short comments directly into the comment field on this Web page or attach a file for lengthier comments. Go to http://www.regulations.gov. Follow the online instructions at that site for submitting comments.

• Mail, including CD-ROMs, etc.: Send to Docket Clerk, U.S. Department of Agriculture, Food Safety and Inspection Service, Patriots Plaza 3, 1400 Independence Avenue SW., Mailstop 3782, Room 8-163A, Washington, DC 20250-3700.

• Hand- or courier-delivered submittals: Deliver to Patriots Plaza 3, 355 E Street SW., Room 8-163B, Washington, DC 20250-3700.

Instructions: All items submitted by mail or electronic mail must include the Agency name and docket number FSIS-2016-0002. Comments received in response to this docket will be made available for public inspection and posted without change, including any personal information, to http://www.regulations.gov.

Docket: For access to background documents or comments received, go to the FSIS Docket Room at Patriots Plaza 3, 355 E Street SW., Room 8-164, Washington, DC 20250-3700 between 8:00 a.m. and 4:30 p.m., Monday through Friday.

FOR FURTHER INFORMATION CONTACT: Dr. Daniel Engeljohn, Assistant Administrator, Office of Policy and Program Development; Telephone: (202) 205-0495.

SUPPLEMENTARY INFORMATION:

Background

The PRC is currently eligible to export processed poultry products to the United States if they are processed in certified establishments in the PRC from poultry slaughtered in federally inspected establishments in the United States or in other certified slaughter establishments in other countries eligible to export poultry to the United States. FSIS is proposing to amend the poultry inspection regulations (9 CFR 381.196(b)) to list the PRC as also eligible to export to the United States poultry products from birds slaughtered in certified PRC establishments to the United States.

Statutory Basis for Proposed Action

Section 17 of the PPIA (21 U.S.C. 466) prohibits importation into the United States of slaughtered poultry, or parts or products thereof, of any kind unless they are healthful, wholesome, fit for human food, not adulterated, and contain no dye, chemical, preservative, or ingredient that renders them unhealthful, unwholesome, adulterated, or unfit for human food. Under the PPIA and the regulations that implement it, poultry products imported into the United States must be produced under standards for safety, wholesomeness, and labeling accuracy that are equivalent to those of the United States. Section 381.196 of Title 9 of the Code of Federal Regulations (CFR) sets out the procedures by which foreign countries may become eligible to export poultry and poultry products to the United States.

Section 381.196(a) requires a foreign country's poultry inspection system to include standards equivalent to those of the United States and to provide legal authority for the inspection system and its implementing regulations that is equivalent to that of the United States. Specifically, a country's legal authority and regulations must impose requirements equivalent to those of the United States with respect to: (1) Ante-mortem and post-mortem inspection by, or under the direct supervision of, a veterinarian; (2) official controls by the national government over establishment construction, facilities, and equipment; (3) direct and continuous official supervision of slaughtering of poultry and processing of poultry products by inspectors to ensure that product is not adulterated or misbranded; (4) complete separation of establishments certified to export from those not certified; (5) maintenance of a single standard of inspection and sanitation throughout certified establishments; (6) requirements for sanitation and for sanitary handling of product at establishments certified to export; (7) official controls over condemned product; (8) a Hazard Analysis and Critical Control Point (HACCP) system; and (9) any other requirements found in the PPIA and its implementing regulations (9 CFR 381.196(a)(2)(ii)).

The country's inspection system must also impose requirements equivalent to those of the United States with respect to: (1) Organizational structure and staffing to ensure uniform enforcement of the requisite laws and regulations in all certified establishments; (2) national government control and supervision over the official activities of employees or licensees; (3) competent, qualified inspectors; (4) enforcement and certification authority; (5) administrative and technical support; (6) inspection, sanitation, quality, species verification, and residue standards; and (7) any other inspection requirements (9 CFR 381.196(a)(2)(i)).

The foreign country's inspection system must ensure that establishments preparing poultry or poultry products for export to the United States comply with requirements equivalent to those of the PPIA and the regulations promulgated by FSIS under the authority of that statute. The foreign country certifies the appropriate establishments as having met the required standards and advises FSIS of those establishments that are certified or removed from certification. Before FSIS will grant approval to the country to export poultry or poultry products to the United States, FSIS must first determine that reliance can be placed on the certification of establishments by the foreign country (9 CFR 381.196(a)(1)).

As indicated above, a foreign country's inspection system must be evaluated by FSIS before eligibility to export poultry products to the United States can be granted. This evaluation consists of two processes: A document review and an on-site review. The document review is an evaluation of the laws, regulations, and other written materials used by the country to effect its inspection program. FSIS requests that countries provide information about their inspection systems through its self-reporting tool (SRT). The SRT is a standardized questionnaire that FSIS provides to foreign governments to gather information that characterizes foreign inspection systems. Through the SRT, FSIS collects information on practices and procedures in six areas, known as equivalence components: (1) Government Oversight (e.g., Organization and Administration), (2) Government Statutory Authority and Food Safety and Other Consumer Protection Regulations (e.g., Inspection System Operation, Product Standards and Labeling, and Humane Handling), (3) Government Sanitation, (4) Government HACCP Systems, (5) Government Chemical Residue Testing Programs, and (6) Government Microbiological Testing Programs.¹ FSIS evaluates the information submitted to verify that the critical points in the six equivalence components are addressed satisfactorily with respect to standards, activities, resources, and enforcement. If the document review is satisfactory, an onsite review is scheduled using a multidisciplinary team to evaluate all aspects of the country's inspection program. This comprehensive process is described more fully on the FSIS Web site at http://www.fsis.usda.gov/wps/portal/fsis/topics/international-affairs/importing-products/equivalence/equivalence-process-overview.

¹ FSIS has made slight changes to the titles of the six equivalence components in the SRT. FSIS added “Government” to the titles of all of the components to clarify that FSIS assesses food regulatory systems. FSIS also added examples of types of government oversight and types of statutory authority and food safety regulations that FSIS evaluates when determining equivalence so that those components are easier to understand.

The PPIA and implementing regulations require that foreign countries be listed in the CFR as eligible to export poultry products to the United States. FSIS must engage in rulemaking to list a country as eligible. Countries found eligible to export poultry or poultry products to the United States are listed in the poultry inspection regulations at 9 CFR 381.196(b). Once listed, the government of an eligible country must certify to FSIS that establishments that wish to export poultry products to the United States are operating under requirements equivalent to those of the United States (9 CFR 381.196(a)(3)). Countries must renew certifications of establishments annually (9 CFR 381.196(a)(3)). To verify that products imported into the United States are not adulterated or misbranded, FSIS reinspects and randomly samples those products at ports-of-entry before they enter U.S. commerce.

Evaluation of the PRC's Poultry Inspection System

In May 2004, the government of the PRC requested approval to export poultry products to the United States. FSIS conducted a document review of the PRC's poultry (slaughter and processing) inspection system to determine whether that system was equivalent to the United States poultry inspection system. FSIS concluded, on the basis of that review, that the PRC's laws, regulations, control programs, and procedures were equivalent to those of the United States.

Accordingly, FSIS proceeded with an on-site audit of the PRC's poultry inspection system from December 1 to December 17, 2004, to verify that the PRC's General Administration of Quality Supervision, Inspection, and Quarantine (AQSIQ), which is the PRC's central competent authority (CCA) in charge of food inspection, effectively implemented a poultry inspection system equivalent to that of the United States. During the 2004 on-site audit, FSIS identified problems with the PRC's sanitation controls, slaughter/processing controls, residue controls, and enforcement controls. For example, FSIS found that the sanitation programs at the establishments visited by the audit team lacked measures to prevent recurring deficiencies that could result in direct product contamination or adulteration, but AQSIQ inspectors did not identify the problems. FSIS also found that the CCA did not have adequate control and supervision over establishments, and official veterinarians did not adequately understand FSIS standards.

From July 27 to August 12, 2005, FSIS conducted a follow-up initial equivalence audit to determine whether the outstanding issues identified during the previous audit had been resolved. FSIS concluded that the PRC had satisfactorily addressed all of the 2004 audit findings for poultry processing. However, the 2005 audit had identified a new systemic deficiency within the risk area of enforcement controls for poultry slaughter. Specifically, FSIS found that ante-mortem and post-mortem inspection procedures and dispositions were performed by establishment-paid veterinarians. On the basis of the 2005 audit, FSIS determined that the PRC's system for processed poultry was equivalent to that of the United States system, but denied the PRC's eligibility to export slaughtered poultry.

In April 2006, FSIS published a final rule in the Federal Register that added the PRC to the list of countries eligible to export poultry products to the United States with the stipulation that the PRC could only export processed poultry products derived from birds slaughtered under Federal inspection in the United States or from another country eligible to export slaughtered poultry products (see 71 FR 20867; April 24, 2006). However, shortly after the publication of the final rule, Congress prohibited FSIS from using funds to establish or implement a rule allowing poultry products to be exported to the United States from the PRC (see Sec. 733 of Pub. L. 110-161). As a result, the PRC was unable to export poultry products to the United States.

In October 2009, Congress lifted the ban on poultry product exports from the PRC on the condition that FSIS conduct on-site reviews of slaughter and processing facilities, laboratories, and other control operations and conduct annual audits and reviews after the PRC is deemed equivalent (see Sec. 743 of Pub. L. 111-80).

In June 2010, a team of FSIS experts traveled to the PRC to collect information related to legislation applicable to their poultry inspection system. FSIS conducted a comprehensive analysis of the PRC's Food Safety Law (FSL) promulgated in 2009 and other information submitted by the PRC to verify that the following equivalence components were addressed satisfactorily with respect to standards, activities, resources, and enforcement: (1) Government Oversight (e.g., Organization and Administration); (2) Government Statutory Authority and Food Safety and Other Consumer Protection Regulations (e.g., Inspection System Operation, Product Standards and Labeling, and Humane Handling); (3) Government Sanitation; (4) Government HACCP Systems; (5) Government Chemical Residue Testing Programs; and (6) Government Microbiological Testing Programs.

From December 1 to 21, 2010, FSIS conducted separate but concurrent on-site audits of the PRC's processed poultry inspection system and the PRC's poultry slaughter inspection system to verify whether the CCA was able to effectively implement a poultry inspection system equivalent to that of the United States. The auditors concluded that the CCA was able to meet the principal requirements for the equivalence components of Sanitation and Chemical Residue Programs. However, FSIS identified systemic inadequacies in both the PRC's processed poultry inspection system and the PRC's poultry slaughter inspection system within the equivalence components for: Government Oversight (e.g., Organization and Administration), Government Statutory Authority and Food Safety and Other Consumer Protection Regulations (e.g., Inspection System Operation, Product Standards and Labeling, and Humane Handling), Government HACCP Systems, and Government Microbiological Testing Programs. For example, FSIS found that the CCA lacked a standardized method to assign inspection personnel to slaughter facilities based on objective measurements such as production line rates, inspection workloads, or line configuration. The CCA also utilized establishment-paid inspectors to conduct official inspection duties. The CCA responded by developing a comprehensive corrective action plan addressing the findings.

From March 4 to 19, 2013, FSIS conducted follow-up on-site audits to verify whether the CCA maintained effective oversight of the PRC's processed poultry inspection system and the PRC's poultry slaughter inspection system and to verify whether the PRC implemented the corrective actions proffered in response to the previous audit's findings. On the basis of the 2013 audit of the processed poultry inspection system, FSIS concluded that the PRC's processed poultry inspection system met all the equivalence components for FSIS equivalence criteria. Therefore, on August 30, 2013, FSIS announced in the Constituent Update (available at: http://www.fsis.usda.gov/wps/wcm/connect/9ad2eb47-a47f-4d16-9b81-0e57368f0c07/ConstUpdate083013.pdf?MOD=AJPERES&CONVERT_TO=url&CACHEID=9ad2eb47-a47f-4d16-9b81-0e57368f0c07) that the PRC could export processed poultry products to the United States. However, the CCA did not adequately address all previously identified concerns about its poultry slaughter inspection system. The CCA was able to meet the principal requirements of the equivalence components for Government Sanitation, Government HACCP Systems, Government Chemical Residue Testing Programs, and Government Microbiological Testing Programs, but FSIS found that the Government Oversight (e.g., Organization and Administration) and Government Statutory Authority and Food Safety and Other Consumer Protection Regulations (e.g., Inspection System Operation, Product Standards and Labeling, and Humane Handling) components were not equivalent. Specifically, the CCA still lacked a standardized method to assign inspection personnel to slaughter facilities on the basis of objective measurements. The CCA responded to these concerns, stating that it would implement changes to its poultry slaughter inspection system.

From May 8 to 28, 2015, FSIS conducted separate but concurrent on-site audits to verify whether the PRC's processed poultry inspection system remains equivalent to the United States' system, and to verify whether the CCA adopted the necessary corrective measures to its poultry slaughter inspection system. FSIS concluded, from the 2015 follow-up audits, that the PRC's processed poultry inspection system remains equivalent to the United States' system. FSIS also concluded that the PRC had satisfactorily addressed all issues of concern that FSIS raised in its 2013 audit of the PRC poultry slaughter inspection system and had met the FSIS equivalence criteria for all six components.

On August 21, 2014, FSIS published a final rule to modernize poultry slaughter inspection (79 FR 49566). The rule implemented new U.S. regulatory requirements including (1) the New Poultry Inspection System (NPIS), an optional post-mortem inspection system, and (2) regulatory changes that apply to all poultry slaughter establishments. On August 11, 2016, the PRC sent a letter to FSIS outlining the changes that were made to the PRC's poultry inspection system to achieve equivalency with the revised U.S. regulations. The PRC stated in the letter that it had updated its inspection manuals to require that establishments develop, implement, and maintain written procedures in their HACCP plans, Sanitation SOPs, or other prerequisite programs to ensure that carcasses with visible fecal contamination do not enter the chiller. According to the letter, the manuals also require establishments to develop, implement, and maintain written procedures in their HACCP plans, Sanitation SOPs, or other prerequisite programs to prevent contamination of carcasses and parts by enteric pathogens and visible fecal material. The PRC stated in the letter that these written procedures must include sampling and analysis for microbial organisms to monitor process control for enteric pathogens. The PRC stated in the letter that it had adopted the U.S. requirements for NPIS, and that establishments must get approval from their local official regulatory agency before they may use the system. On September 1, 2016, the PRC sent copies of their updated inspection manuals to FSIS. FSIS has reviewed the submitted letter and updated inspection manuals and has determined that the PRC poultry slaughter inspection system is equivalent with the new U.S. regulatory requirements in the August 21, 2014 final rule.

In summary, FSIS has completed the document review, on-site audits, and has verified that the PRC made necessary to corrective actions to its poultry slaughter inspection system in response to the FSIS audits. Therefore, FSIS has determined that, as implemented, the PRC's poultry slaughter inspection system is equivalent to the United States poultry inspection system. The full audit reports on the PRC's poultry inspection system (slaughter and processing) can be found on the FSIS Web site at: http://www.fsis.usda.gov/wps/portal/fsis/topics/international-affairs/importing-products/eligible-countries-products-foreign-establishments/foreign-audit-reports.

Should this rule become final, the government of the PRC must certify to FSIS those establishments that wish to export slaughtered poultry products to the United States are operating in accordance with requirements equivalent to those of the United States. FSIS will verify whether the establishments certified by the PRC's government meet the United States requirements through annual scheduled audits of the PRC's poultry inspection system.

Although a foreign country may be listed in FSIS regulations as eligible to export poultry to the United States, the exporting country's products must also comply with all other applicable requirements of the United States. These requirements include restrictions under 9 CFR part 94 of APHIS's regulations, which also regulate the exportation of poultry products from foreign countries to the United States. For example, APHIS has classified the PRC as a region affected with Highly Pathogenic Avian Influenza subtype H5N1 and Exotic Newcastle Disease. Therefore, even if FSIS were to list the PRC as a country eligible to export slaughtered poultry, or parts or products thereof, at this time, the PRC would only be allowed to export cooked poultry products to the United States (see 9 CFR 94.6). Since the PRC's disease status may change during the equivalence process, FSIS will follow-up with APHIS and take into consideration how changes in the animal disease status may impact the country's eligibility to export certain types of poultry products to the United States.

If this proposed rule is adopted, all slaughtered poultry, or parts and products thereof, exported to the United States from the PRC will be subject to re-inspection at the U.S. ports-of-entry for, but not limited to, transportation damage, product and container defects, labeling, proper certification, general condition, and accurate count. In addition, FSIS will conduct other types of re-inspection activities, such as incubation of canned products to ensure product safety and taking product samples for laboratory analysis for the detection of drug and chemical residues, pathogens, species, and product composition. Products that pass re-inspection will be stamped with the official United States mark of inspection and allowed to enter United States commerce. If they do not meet United States requirements, they will be refused entry and within 45 days must be exported to the country of origin, destroyed, or converted to animal food (subject to approval of the U.S. Food and Drug Administration (FDA)), depending on the violation. The import re-inspection activities can be found on the FSIS Web site at http://www.fsis.usda.gov/regulations_&_policies/fsis_import_reinspection/index.asp.

Executive Orders 12866 and 13563, and the Regulatory Flexibility Act

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This proposed rule has been designated as a “non-significant” regulatory action under section 3(f) of Executive Order (E.O.) 12866. Accordingly, the rule has not been reviewed by the Office of Management and Budget (OMB) under E.O. 12866 and is not subject to the provisions of E.O 13771.

Expected Costs of the Proposed Rule

The costs of this rule would accrue primarily to domestic poultry producers in the form of greater competition from the PRC. In the short run, the cost is likely to be small as the expected volume of trade stimulated by this proposed rule is likely to be small (see Expected Benefits section below.)

The domestic producers would probably start to feel the pressure of competition should the PRC become eligible to export raw and other non-fully-cooked poultry products, and more establishments become certified to export to the United States. Some domestic producers may lose market share, and would have to make the necessary investment to be more efficient and stay competitive. As discussed before, the Agency cannot predict when this could happen. However, because the initial impact is likely to be small, as the expected PRC export volume is low, the Agency expects that the United States' industry would have time to prepare for the potentially larger impact and adjust their business strategies.

Expected Benefits of the Proposed Rule

FSIS has not estimated the potential impact in the long run. However, the PRC is the second largest poultry producing country in the world, trailing closely behind the United States.² If the PRC were to export other poultry products (for example, if APHIS allows the PRC to export raw chicken products) ³ to the United States and more PRC establishments become certified to be eligible, consumers will likely benefit from more choices and more competitive prices in the marketplace, and producers will likely become more efficient to be competitive.⁴ The Agency did not quantify the value of these benefits because of the lack of predictability associated with the many factors that heavily influence trade patterns and volume. These factors include results of Sanitary and Phytosanitary Standards issues (e.g. the avian influenza), exchange rates,⁵ and domestic political and economic conditions.

² See Food Outlook, Food and Agricultural Organization (FAO) of the United Nations, October 2015, p. 49, at http://www.fao.org/3/a-i5003e.pdf, accessed 1/11/2016.

³ As mentioned above, APHIS has classified PRC as region affected by certain animal diseases, so the PRC would only be allowed to export cooked poultry products to the United States.

⁴ It is well-established that international trade benefits trade partners because it allows countries to specialize in producing products at which they have a comparative advantage.

⁵ The exchange rate affects the relative prices of exports and imports. The PRC's currency—RMB—has been appreciating against other currencies and is expected to fluctuate in the near future.

Adoption of this rule will increase trade between the United States and the PRC in poultry products. In the short run, the volume of trade stimulated by this proposed rule is likely to be small because the PRC only intends to certify five slaughter establishments to provide poultry to certified processing establishments to export fully-cooked poultry products to the United States. Data from the PRC showed that these five slaughter establishments will supply poultry to five processing establishments that the PRC will certify as eligible to ship product to the U.S.—three of them intend to export cooked chicken quarter-legs and chicken breasts, one to export cooked duck legs and duck breasts, and one to export roasted boneless duck to the United States. According to the data, the projected volume of export to the United States will be about 324 million pounds per year for the next five years.⁶ Given that the United States domestic annual production volume of RTE fully-cooked poultry is about 12,325 million pounds,⁷ the projected cooked poultry products from the PRC would only be about 2.6 percent of total United States production in the next five years.⁸ The immediate impact on the United States consumers and domestic processors is likely to be minor, as the low volume of trade is likely to have little effect on supply, demand, and prices.

⁶ Data is from the General Administration of Quality Supervision, Inspection and Quarantine of the People's Republic of China, November 2015. The projected annual production of the mentioned chicken and duck products at these five processing establishments will be about 838 million pounds per year, which could be sold in the PRC or to other foreign countries.

⁷ Calculated from PHIS data in November 2015. This number cannot be divided by species. If we adjusted it by the proportions of chicken and ducks in total domestic slaughtered poultry, which is 88.3 percent, the volume would be about 10,833 million pounds per year.

⁸ If we use 10,833 million pounds (see previous footnote) as the denominator, the projected PRC export would be about 3 percent of United States domestic production of fully-cooked chicken and duck.

Expected Effects on Small Entities

The FSIS Administrator has made a preliminary determination that this proposed rule will not have a significant impact on a substantial number of small entities, as defined by the Regulatory Flexibility Act (5 U.S.C. 601). The expected trade volume will be small, with little or no effect on all U.S. establishments, regardless of size.

Executive Order 12988

This proposed rule has been reviewed under Executive Order 12988, Civil Justice Reform. If this proposed rule is adopted: (1) All State and local laws and regulations that are inconsistent with this rule will be preempted; (2) No retroactive effect will be given to this rule; and (3) Administrative proceedings will not be required before parties may file suit in court challenging this rule.

Paperwork Reduction Act

No new paperwork requirements are associated with this proposed rule. Foreign countries wanting to export poultry and poultry products to the United States are required to provide information to FSIS certifying that their inspection systems provide standards equivalent to those of the United States, and that the legal authority for the system and their implementing regulations are equivalent to those of the United States. FSIS provided the PRC with questionnaires asking for detailed information about the country's inspection practices and procedures to assist that country in organizing its materials. This information collection was approved under OMB control number 0583-0094. The proposed rule contains no other paperwork requirements.

E-Government Act

FSIS and USDA are committed to achieving the purposes of the E-Government Act (44 U.S.C. 3601, et seq.) by, among other things, promoting the use of the Internet and other information technologies and providing increased opportunities for citizen access to Government information and services, and for other purposes.

Additional Public Notification

FSIS will officially notify the World Trade Organization's Committee on Sanitary and Phytosanitary Measures (WTO/SPS Committee) in Geneva, Switzerland, of this proposal and will announce it on-line through the FSIS Web page located at: http://www.fsis.usda.gov/regulations_&_policies/Proposed_Rules/index.asp. FSIS also will make copies of this Federal Register publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA, on the grounds of race, color, national origin, religion, sex, gender identity, sexual orientation, disability, age, marital status, family/parental status, income derived from a public assistance program, or political beliefs, shall exclude from participation in, deny the benefits of, or subject to discrimination, any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

List of Subjects in 9 CFR Part 381

Imported products.

For the reasons set out in the preamble, FSIS is proposing to amend 9 CFR part 381 as follows:

PART 381—POULTRY PRODUCTS INSPECTION REGULATIONS

1. The authority citation for Part 381 continues to read as follows:

Authority: 7 U.S.C. 138f, 450; 21 U.S.C. 451-470; 7 CFR 2.7, 2.18, 2.53.

§ 381.196 [Amended]

2. Amend § 381.196(b) by removing footnote 2 after “People's Republic of China.”

Done at Washington, DC, on June 12, 2017.
Alfred V. Almanza,
Administrator.

[FR Doc. 2017-12554 Filed 6-15-17; 8:45 am]

BILLING CODE 3410-DM-P